DEPARTMENT OF JUSTICE

Notice of Lodging Proposed Consent Decree

In accordance with Departmental Policy, 28 CFR 50.7, notice is hereby given that a proposed Consent Decree in United States Of America v. Bar-1 Ranch, Ltd.; Bar 1 Ranch, Llc; Bar-1 Ranch 2, Llc; Bar-One Ranch Management, Llc; and Alfred Barone, Docket No. 9:09-cv-00130-DWM-JCL, was lodged with the United States District Court for the District of Montana on March 31, 2011.

This proposed Consent Decree concerns a complaint filed by the United States against Bar-1 Ranch, Ltd.; Bar 1 Ranch, Llc; Bar-1 Ranch 2, Llc; Bar-One Ranch Management, Llc; and Alfred Barone, pursuant to 28 U.S.C. 1331, 1345, and 1355, and Sections 301, 309(b), and 404 of the Clean Water Act, 33 U.S.C. 1311, 1319(b) and 1344, to obtain injunctive relief from and impose civil penalties against the Defendants for violating the Clean Water Act by discharging pollutants without a permit into waters of the United States. The proposed Consent Decree resolves these allegations by requiring the Defendants to restore the impacted areas and to pay a civil penalty.

The Department of Justice will accept written comments relating to this proposed Consent Decree for thirty (30) days from the date of publication of this Notice. Please address comments to Daniel Pinkston, Environmental Defense Section, Environment and Natural Resources Division, U.S. Department of Justice, 999 18th Street, South Terrace, Suite 370, Denver, Colorado 80202, and refer to United States v. Bar-1 Ranch, Ltd., DJ #90-5-1-1-18203.

The proposed Consent Decree may be examined at the Clerk's Office, United States District Court for the District of Montana, Russell Smith Courthouse, 201 East Broadway, Missoula, Montana 59801. In addition, the proposed Consent Decree may be viewed at http://www.usdoj.gov/enrd/Consent_Decrees.html.

Cherie L. Rogers,
Assistant Section Chief, Environmental Defense Section, Environment & Natural Resources Division.

[FR Doc. 2011-8501 Filed 4-8-11; 8:45 am]

BILLING CODE